DEPARTMENT OF LABOR

Pension and Welfare Benefits Administration

110th Full Meeting of the Advisory Council on Employee Welfare and Pension Benefits Plan; Notice of Meeting

Pursuant to the authority contained in Section 512 of the Employee Retirement Income Security Act of 1974 (ERISA), 29 U.S.C. 1142, the 110th open meeting of the full Advisory Council on Employee Welfare and Pension Benefit Plans will be held Friday, June 2, 2000 in Room N-5437 A-D, U.S. Department of Labor Building, Third and Constitution Avenue NW, Washington, DC 20210.

The purpose of the meeting, which will begin at 1:30 p.m. and end at approximately 3 p.m., is for the three working groups to provide progress reports on their topics of study and for the Pension and Welfare Benefits Administration to update members on current employee benefit activities.

Members of the public are encouraged to file a written statement pertaining to any topics the Council elected to study for the year by submitting 20 copies on or before May 26, 2000 to Sharon Morrissey, Executive Secretary, ERISA Advisory Council, U.S. Department of Labor, Suite N-5677, 200 Constitution Avenue NW, Washington, DC 20210.

Individuals or representatives of organizations wishing to address the Advisory Council should forward their requests to the Executive Secretary or telephone (202) 219-8753. Oral presentations will be limited to ten minutes, time permitting, but an extended statement may be submitted for the record. Individuals with disabilities, who need special accommodations, should contact Sharon Morrissey by May 26 at the address indicated.

Organizations or individuals may also submit statements for the record without testifying. Twenty (20) copies of such statements should be sent to the Executive Secretary of the Advisory Council at the above address. Papers will be accepted and included in the record of the meeting if received on or before May 26, 2000.

Signed at Washington, DC this 12th day of May 2000.
Leslie Kramerich,
Acting Assistant Secretary, Pension and Welfare Benefits Administration.

[FR Doc. 00-12404 Filed 5-16-00; 8:45 am]

BILLING CODE 4510-29-M